DEPARTMENT OF TRANSPORTATION

Surface Transportation Board

[STB Finance Docket No. 33824]

Great Salt Lake and Southern Railroad, L.L.C.—Construction and Operation—In Tooele County, UT

AGENCY: Surface Transportation Board.

ACTION: Notice of filing of application and request for public comments.

SUMMARY: Great Salt Lake and Southern Railroad Company, L.L.C., has filed an application under 49 U.S.C. 10901(a) for authority to construct and operate one of the two following rail projects: (1) A rail line approximately 32 miles in length between Low, UT, and a facility to be constructed in the Skull Valley, UT, for the interim storage of spent nuclear fuel; or (2) A run-around track and sidings at a point approximately 1.8 miles west of Timpie, UT, where applicant would locate an intermodal transfer point for the transfer of spent nuclear fuel shipping casks from railcars onto trucks for highway movement to the storage facility. The Board will entertain comments and replies on whether this application meets the criteria of 49 U.S.C. 10901.

DATES: Comments are due on February 9, 2000. Replies are due February 14, 2000.

ADDRESSES: Send comments (an original and 10 copies) referring to STB Finance Docket No. 33824 to: Surface Transportation Board, Office of the Secretary, Case Control Unit, 1925 K Street, NW, Washington, DC 20423-0001. In addition, send one copy of comments to applicant's representative: George W. Mayo, Jr., Hogan & Hartson L.L.P., 555 Thirteenth Street, NW, Washington, DC 20004-1109.

FOR FURTHER INFORMATION CONTACT: Joseph H. Dettmar, (202) 565-1600. [TDD for the hearing impaired: 1-800-877-8339.]

SUPPLEMENTARY INFORMATION: On January 5, 2000, Great Salt Lake and Southern Railroad Company, L.L.C. (GSLS), a noncarrier, filed an application under 49 U.S.C. 10901(a) for authority to construct and operate one of the two following rail projects: (1) A rail line approximately 32 miles in length (and associated sidings) between Low, UT, and a facility which applicant's parent, Private Fuel Storage L.L.C. (PFS), proposes to construct in the south-central portion of Skull Valley, UT, for the interim storage of spent nuclear fuel (SNF); or (2) A run-around track and sidings at a point approximately 1.8 miles west of Timpie, UT, where applicant would locate an intermodal transfer point for the transfer of SNF shipping casks from arriving railcars onto heavy haul trucks for highway movement to the storage facility. Although GSLS has not finally determined which of the two rail projects it will ultimately pursue, it prefers the direct rail option because it will permit efficiencies associated with rail-only movements.

Environmental review of the application under the National Environmental Policy Act of 1969 and related environmental laws is currently ongoing by the Board's Section of Environmental Analysis (SEA). The Board is engaged in this environmental review in the capacity of a cooperating agency, where the Nuclear Regulatory Commission (NRC) is the lead agency for environmental review. According to applicant, NRC undertook this lead responsibility in connection with the June 1997 license application filed by PFS seeking NRC authority to construct and operate the SNF storage facility. The Bureau of Land Management and the Bureau of Indian Affairs of the United States Department of the Interior are also participating in the environmental review as cooperating agencies. Because a third-party consultant has been retained to prepare the necessary environmental documentation under the Board's direction and supervision, the Board's environmental reporting requirements are not applicable to this application. See 49 CFR 1105.10(d).

GSLS indicates that substantially all of the traffic to be transported to the storage facility will be SNF originating at various commercial nuclear power electric generating plants throughout the United States. The total design capacity of the PFS facility will be 4,000 canisters of SNF. GSLS states that, although the United States Department of Energy (DOE) has the statutory responsibility to develop a geologic repository program for SNF by January 31, 1998, DOE is not likely to implement such a program for another decade. Applicant states that, accordingly, the nuclear power industry has no alternative but to build and operate its own storage facility where SNF can be stored for an interim period of up to 40 years, while DOE pursues its permanent disposal obligation.

Written comments (an original and 10 copies) on the application to construct and operate the above-described rail lines must be filed with the Board not later than February 9, 2000. Comments must contain the basis for the party's position either in support or opposition, and must contain the name and address of the commenting party. Applicant must be concurrently served with a copy of each comment. Any replies (an original and 10 copies) by applicant to written comments must be filed with the Board not later than February 14, 2000.

Board decisions and notices are available on our website at “WWW.STB.DOT.GOV.”

This decision will not significantly affect either the quality of the human environment or the conservation of energy resources.

Decided: January 13, 2000.
By the Board, David M. Konschnik, Director, Office of Proceedings
Vernon A. Williams,
Secretary.

[FR Doc. 00-1229 Filed 1-18-00; 8:45 am]

BILLING CODE 4915-00-P